DEPARTMENT OF AGRICULTURE

Forest Service

Bitterroot National Forest; Montana; Gold Butterfly Project Supplemental Environmental Impact Statement

AGENCY: Forest Service, USDA.

ACTION: Notice of intent to prepare a supplemental environmental impact statement.

SUMMARY: The Bitterroot National Forest, Stevensville Ranger District, Montana, intends to prepare a Supplemental Environmental Impact Statement (SEIS) for the Gold Butterfly Project. Since publication of the original EIS, it was determined that a project-specific forest plan amendment is necessary.

DATES: The Draft SEIS is expected February 2020 and the Final SEIS is expected May 2020.

FOR FURTHER INFORMATION CONTACT: Steve Brown, Stevensville District Ranger, by telephone at (406) 777-7410, or by email at steve.brown2@usda.gov.

ADDRESSES: Additional information concerning this project may be obtained at https://www.fs.usda.gov/project/?project=51486.

Individuals who use telecommunication devices for the deaf (TDD) may call the Federal Information Relay Service (FIRS) at 1-800-877-8339 between 8 a.m. and 8 p.m., Eastern Time, Monday through Friday.

SUPPLEMENTARY INFORMATION:

Purpose and Need for Action

The purpose and need for the SEIS is to analyze a project-specific Forest Plan Amendment related to management of old growth. The current Bitterroot Forest Plan is from 1987. New and better science is available concerning old growth ecosystems, specifically “Old Growth Forest Types of the Northern Region” or Green et. al as it is more commonly referred to in the Region. This science has already been adopted by the majority of the Forests within R1, including those who have revised or are currently revising their plans using the 2012 Planning Rule.

The purpose of the Gold Butterfly project is to:

• Improve landscape resilience to disturbances (such as insects, diseases, and fire) by modifying forest structure and composition, and fuels.

• Provide timber products and related jobs.

• Reduce chronic sediment sources in the Willow Creek watershed to improve water quality and bull trout habitat in the long-term.

• Restore or improve key habitats such as meadows, aspen, and whitebark pine.

Proposed Action

The project-specific amendment would change the definition of old growth to be consistent with Green et. al. The amendment would also set aside management area direction related to specific percentages of old growth required to be allocated in each management area. There is no scientific basis for the percentages, and they do not align with the principles outlined in Green et. al.

When proposing a Forest Plan amendment, the 2012 Planning Rule (36 CFR 219), as amended, requires the responsible official to provide in the initial notice about the amendment “which substantive requirements of §§ 219.8 through 219.11 are likely to be directly related to the amendment (§ 219.13(b)(5)) . . .” Whether a rule provision is likely to be directly related to an amendment is determined by the purpose for and the effects of the amendment, and informed by the best available scientific information, effects analysis, monitoring data or other rationale.

Based on the proposed amendment and requirement of the planning rule, the following substantive requirements of the 36 CFR 219 planning regulations would likely be directly related to the proposed amendments: § 219.9 Diversity of plant and animal communities.

The proposed action includes commercial harvest, non-commercial thinning, and prescribed fire on 7,376 acres within the project area. Approximately 90 percent of treatment acres are within the insect and disease treatment area designated under the Healthy Forest Restoration Act Title VI. Commercial harvest includes regeneration treatments on 2,081 acres and intermediate treatments on 3,540 acres. Approximately 392 acres of intermediate harvest would occur in dry site old growth stands. In addition, there are 359 acres of regeneration harvest in old growth that would remove these acres from old growth status. Road decommissioning would occur on 22.3 miles of National Forest System Roads and 21.3 miles of roads would be stored for future management use. Approximately 6.4 miles of permanent road and 17.3 miles of temporary road would be constructed to implement silvicultural prescriptions and provide for wood removal. Best management practices would be implemented on 32.4 miles of haul road to reduce potential sediment runoff and improve water quality. The Burnt Fork and Willow Creek trailheads are proposed to be moved lower in the drainages to address watershed concerns, with the associated 2.4 miles of road being converted to the NFS trail system.

Responsible Official

Bitterroot National Forest Supervisor.

Nature of Decision To Be Made

The decision will authorize vegetation treatments and whether to amend the Bitterroot Forest Plan site-specifically for the duration of the project.

Christine Dawe,
Acting Associate Deputy Chief, National Forest System.

[FR Doc. 2020-27546 Filed 12-14-20; 8:45 am]

BILLING CODE 3411-15-P